DEARTMENT OF HOMELAND SECURITY

Coast Guard

33 CFR Part 100

[Docket No. USCG-2024-0221]

Special Local Regulations; Marine Events Within the Captain of the Port Charleston

AGENCY: Coast Guard, DHS.

ACTION: Notification of enforcement of regulation.

SUMMARY: The Coast Guard will enforce special local regulations for the Charleston Race Week in Charleston, SC, to provide for the safety of life on navigable waterways during this event. Our regulation for marine events within the Captain of the Port Charleston identifies the regulated area for this event in Charleston, SC. During the enforcement period, no person or vessel may enter, transit through, anchor in, or remain within the designated area unless authorized by the Captain of the Port Charleston (COTP) or a designated representative.

DATES: The regulations in 33 CFR 100.704 will be enforced for the regulated area listed in Item No. 2 in Table 1 to § 100.704 from 9 a.m. to 5 p.m. on April 18, 2024, through April 21, 2024.

FOR FURTHER INFORMATION CONTACT: If you have questions about this notification of enforcement, call or email Chief Marine Science Technician Tyler M. Campbell, Sector Charleston, Waterways Management Division, U.S. Coast Guard; telephone (843) 740-3184, email Tyler.M.Campbell@uscg.mil.

SUPPLEMENTARY INFORMATION: The Coast Guard will enforce special local regulations in 33 CFR 100.704 for the Annual Charleston Race Week event regulated area identified in Table 1 to § 100.704, Item No. 2 from 9 a.m. to 5 p.m. on April 18, 2024, through April 21, 2024. This action is being taken to provide for the safety of life on navigable waterways during this 4-day event. Our regulation for marine events within the Seventh Coast Guard District, § 100.704, specifies the location of the regulated area for the Charleston Race Week which encompasses portions of Charleston Harbor. During the enforcement periods, as reflected in § 100.704(c), all persons and vessels are prohibited from entering the regulated area, except those persons and vessels participating in the event, unless they receive permission to do so from the Coast Guard Patrol Commander, or designated representative. During the enforcement periods, as reflected in § 100.704(c), spectator vessels may safely transit outside the regulated area, but may not anchor, block, loiter in, impede the transit of participants or official patrol vessels or enter the regulated area without approval from the Coast Guard Patrol Commander or a designated representative.

The Coast Guard may be assisted by other Federal, State, or local law enforcement agencies in enforcing this regulation. In addition to this notice of enforcement in the Federal Register, the Coast Guard will provide notice of the regulated area via Local Notice to Mariners, Marine Safety Information Bulletins, Broadcast Notice to Mariners, and on-scene designated representatives.

Dated: April 5, 2024.
F.J. DelRosso,
Captain, U.S. Coast Guard, Captain of the Port Charleston.

[FR Doc. 2024-07628 Filed 4-10-24; 8:45 am]

BILLING CODE 9110-04-P